DEPARTMENT OF AGRICULTURE

Animal and Plant Health Inspection Service

[Docket No. APHIS-2007-0150]

Public Meeting; Veterinary Biologics

AGENCY: Animal and Plant Health Inspection Service, USDA.

ACTION: Notice of public meeting.

SUMMARY: This is the second notice to producers and users of veterinary biological products and other interested individuals that we will be holding our 14th public meeting to discuss regulatory and policy issues related to the manufacture, distribution, and use of veterinary biological products. This notice provides information on the agenda, as well as the dates, times, and place of the meeting. It also identifies a contact person for obtaining registration forms, lodging information, and copies of the agenda.

DATES: The public meeting will be held Monday, April 7, 2008, through Wednesday, April 9, 2008, from noon to approximately 5 p.m. on Monday, from 8:30 a.m. to approximately 5 p.m. on Tuesday, and from 8 a.m. to approximately noon on Wednesday.

ADDRESSES: The public meeting will be held in the Scheman Building at the Iowa State Center, Iowa State University, Ames, IA.

FOR FURTHER INFORMATION CONTACT: Ms. Betty Light, Center for Veterinary Biologics, VS, APHIS, 510 South 17th Street, Suite 104, Ames, IA 50010-8197; phone (515) 232-5785 extension 128, fax (515) 232-7120; or e-mail Betty.J.Light@aphis.usda.gov.

SUPPLEMENTARY INFORMATION: In a notice published in the Federal Register on December 13, 2007 (72 FR 70819, Docket No. APHIS-2007-0150), we announced that the Center for Veterinary Biologics (CVB) would be holding its 14th annual veterinary biologics public meeting and requested that interested persons submit suggestions for agenda topics. Based on the responses and on other considerations, the agenda for the 14th public meeting will include, but is not limited to, the following:

• Influenza related topics (avian, canine, equine, and swine);

• Control of E. coli O157:H7 contamination in beef cattle;

• Agroterrorism; and

• Veterinary Services and CVB regulatory updates.

In addition, we will utilize handouts and information stations to provide updates concerning compliance activities, adjuvant approval, the evaluation of Erysipelothrix rhusiopathiae surface protective antigen A (spa A), Clostridium haemolyticum Beta Toxin as a protective immunogen, risk analysis, the CVB quality management system, CVB export services, expediting the processing of submissions to CVB, the International Institute for Cooperation in Animal Biologics, International Harmonization, the International Cooperation on Harmonization of Technical Requirements for Registration of Veterinary Medicinal Products (VICH), changes to regulations and memoranda, and licensing diagnostic test kits.

Registration forms, lodging information, and copies of the agenda for the 14th public meeting may be obtained from the person listed under FOR FURTHER INFORMATION CONTACT. This information is also available on the Internet at http://www.aphis.usda.gov/animal_health/vet_biologics/vb_pubmtg.shtml.

The registration deadline is March 26, 2008. A block of hotel rooms has been set aside for this meeting until March 26, 2008. Early reservation of rooms is strongly encouraged.

Done in Washington, DC, this 7th day of March 2008.
Kevin Shea,
Acting Administrator, Animal and Plant Health Inspection Service.

[FR Doc. E8-5042 Filed 3-12-08; 8:45 am]

BILLING CODE 3410-34-P